COMMITTEE FOR PURCHASE FROM PEOPLE WHO ARE BLIND OR SEVERELY DISABLED

Correction of Notice To Clarify Scope of Procurement List Additions; 2008 Commodities Procurement List

This Committee is correcting the notice of products that moved from its C-List to B-List.

In the notice appearing on page 50930-50931 on August 29, 2008 (Volume 73, Number 169), the Committee published products that are C-List products incorrectly as products that are moving from the C-List to the B-List.

The products that have moved from the C-List to the B-List are:

SKILCRAFT 18″ Blue Wet Mop 7920-01-565-4597.

SKILCRAFT 24″ Blue Wet Mop 7920-01-565-4596.

SKILCRAFT 18″ Yellow Dust Mop 7920-01-565-4598.

SKILCRAFT 24″ Yellow Dust Mop 7920-01-565-4599.

SKILCRAFT Flat Mop Handle with Frame 18″ 7920-01-565-4595.

SKILCRAFT Flat Mop Handle with Frame 24″ 7920-01-565-4600.

The URL for accessing the A-List is corrected as follows: http://www.jwod.gov/jwod/p_and_s/A-List_08.html.

Kimberly M. Zeich,
Director, Program Operations.

[FR Doc. E8-20610 Filed 9-4-08; 8:45 am]

BILLING CODE 6353-01-P